DEPARTMENT OF COMMERCE

Census Bureau

2006 Census Test Group Quarters Validation Operation

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 11, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Annetta C. Smith, U.S. Census Bureau, Building 2, Room 2102, Washington, DC 20233-9200, Telephone number (301) 763-1348.

SUPPLEMENTARY INFORMATION:

I. Abstract

The Census Bureau must provide everyone in the United States—including persons who do not live in conventional housing units—the opportunity to be counted in a census. In Census 2000, we implemented a set of procedures to enumerate persons who live or stay in group quarters (GQs—see Definition of Terms) such as nursing homes, college dormitories, jails, and shelters. In order to count these persons, we developed a list of GQs—living quarters other than conventional housing units.

Prior to the Census 2000 enumeration of persons living in group quarters, the Census Bureau conducted the Special Place (see Definition of Terms) Facility Questionnaire operation to develop an inventory of special place/group quarters facilities. This operation was designed to identify, verify, classify, and obtain pertinent enumeration information about every group quarters.

As a result of lessons learned from Census 2000, the Census Bureau implemented the Group Quarters Validation (GQV) operation in 2004 in order to develop methodologies that would improve the enumeration of the GQ population in the 2010 Census. This operation replaced the Special Place Facility Questionnaire. The 2004 GQV operation was planned to develop new procedures to verify and update the existing Census 2000 GQ inventory as corrected by the Count Question Resolution (see Definition of Terms) program. In addition to verifying and updating the Census 2000 inventory, the 2004 GQV operation was intended to properly classify places with housing units that were potentially difficult to classify or that required special procedures (e.g., hotels/motels and assisted living facilities).

As part of ongoing planning for the 2010 Census, the Census Bureau now plans to conduct the 2006 Census Test GQV operation in order to incorporate lessons learned from the 2004 GQV operation and focus group research with those learned from Census 2000. Among the improvements to the program that we plan to implement in the 2006 Census Test GQV operation are:

• Testing revised definitions that are intended to improve the classification of group quarters,

• Simplifying the questionnaire skip patterns, and

• Enumerating pre-identified group homes as GQs rather than as HU as was done in the 2004 GQV operation.

The 2006 GQV operation, which supports the Census Bureau's strategic goal of developing methodologies for compiling a complete and accurate Master Address File for the 2010 Census, is designed to test improved procedures to verify and classify addresses identified as other living quarters (see Definition of Terms) during the 2006 Address Canvassing (see Definition of Terms) operation. Addresses will be classified as a GQ, a HU, or not a living quarter during Address Canvassing. If the address is a GQ, the 2006 Other Living Quarters Validation questionnaire is designed to enable the lister to label it with the correct type code, (e.g, as a college residence hall or skilled nursing unit).

In order to achieve its goal of developing procedures for improving the enumeration of the GQ population, the 2006 GQV operation plans to evaluate the effect of the following on address list development and GQ classification:

• Using administrative records to obtain addresses for selected types of GQs (e.g., group homes) in order to update the Master Address File prior to Address Canvassing.

• Using Address Canvassing in conjunction with GQV to distinguish between HUs and GQs in order to update the GQ address list. This is part of our ongoing effort in the development and implementation of an integrated approach for updating the list of living quarters during Address Canvassing and other living quarters operations.

• Incorporating the following revisions in the Other Living Quarters Validation questionnaire: (1) Improving the content and flow, (2) adding a “length of stay question,” and (3) incorporating GQ definitions that are being tested as part of the 2006 Census Test.

There are two test sites for the 2006 Census Test GQV operation—selected census tracts in Travis County, Texas, and the Cheyenne River Reservation, South Dakota. The test will be conducted out of the Austin Local Census Office in Texas, and the Cheyenne River Census Field Office on the Cheyenne River Reservation. The planned dates for the 2006 GQV operation are October 31, 2005 through November 30, 2005. The 2006 GQV operation must be conducted late in 2005 because GQV data will be used in the Advance Visit operation that will be conducted early in 2006 (prior to the 2006 Census Test).

II. Method of Collection

The 2006 GQV universe for the Travis County, Texas, and the Cheyenne River Reservation, South Dakota, which will be validated and type-coded using the 2006 Other Living Quarters Validation questionnaire, will consist primarily of other living quarters from the 2006 Address Canvassing operation. In addition to these other living quarters, the universe also will include GQs from Census 2000, administrative records, and the Demographic Areas Address Listing (see Definition of Terms) that were not identified as other living quarters during the 2006 Address Canvassing operation.

During Address Canvassing, the field staff will update and verify the addresses for the Texas and South Dakota sites (both HUs and other living quarters). The canvassers will code addresses as other living quarters if they have living quarters, or if they have the potential of having living quarters and do not meet the definition of a HU. The addresses for these other living quarters will then be merged with adds from administrative records and the Demographic Areas Address Listing GQ adds that were not identified during Address Canvassing to create the universe of other living quarters for the test areas.

A lister for the 2006 GQV operation will visit each of these addresses and conduct an interview using the paper 2006 Other Living Quarters Validation questionnaire. The lister will ask a series of questions that are intended to validate and classify the type of living quarters at the other living quarters address. If the address is determined to be a GQ, the lister will interview the respondent to verify, classify, and obtain other pertinent information about the GQ. The lister will attempt to verify and/or collect information including the basic street address, contact name, telephone number, maximum capacity, GQ type code, and the full name of the facility. If the address is determined to be a housing unit or not a living quarter, the lister will record the applicable action code and end the interview.

Completed GQV questionnaires will be sent to the Census Bureau National Processing Center in Jeffersonville, Indiana for data capture. The data will be unduplicated based on address information collected using the 2006 Other Living Quarters Validation questionnaires, and information for all valid GQs identified during the 2006 GQV operation will be processed for use in the 2006 Advance Visit operation, the 2006 Service-Based Enumeration operation, and the 2006 Group Quarters Enumeration operation.

Approximately 10 percent of the addresses from the 2006 GQV universe will be randomly selected for re-interview in order to verify the outcomes of the original interviews. This quality control procedure will be conducted on a flow basis throughout the operation.

Definition of Terms

Address Canvassing—A data collection operation designed to support the Census Bureau's efforts to compile the most accurate and comprehensive residential (housing units and group quarters) address list possible. For 2006, listers will verify, update, add, and delete address records in each census block within the Assignment Area, while also updating map features on the electronic map where Global Positioning System (GPS) is available. They also will capture coordinates for each living quarters via GPS or a manual method when GPS is not available, link duplicate addresses when they identify them and determining if a living quarters should be coded as another living quarters for further review in the GQV operation.

Count Question Resolution—A process by which state, local, and tribal government officials could ask the Census Bureau to verify the accuracy of the legal boundaries used for Census 2000, the allocation of living quarters and their residents in relation to those boundaries, and the count of people recorded by the Census Bureau for specific living quarters.

Demographic Areas Address Listing—DAAL is a post-Census 2000 program designed to update the sample universe of housing units and group quarters for various demographic surveys. DAAL also is intended to update the inventory of housing units and features for selected areas of the country in order to improve the coverage and completeness of the MAF in preparation for the ACS sample selection.

Group Quarters (GQs)—Group quarters are places where people can live or stay that are normally owned or managed by an entity or organization providing housing and/or services for the residents. These services may include custodial or medical care, as well as other types of assistance, and residency is commonly restricted to those receiving these services. People living in them are usually not related to each other.

Group quarters include such places as residential treatment centers, college residence halls, military barracks, skilled nursing facilities, correctional facilities, group homes, juvenile facilities dormitories, workers' dormitories, and facilities for people experiencing homelessness.

Housing Unit—A housing unit is a living quarters in which the occupants live separately from any other individuals in the building and have direct access to their living quarters from outside the building or through a common hall. Housing units are usually houses, apartments, mobile homes, groups of rooms or single rooms that are occupied as separate living quarters. They are residences for single individuals, groups of individuals, or families who live together. Although housing units may be vacant or occupied, non-traditional living quarters such as boats, RVs, and tents are considered to be housing units ONLY if someone is living in them and they are either the occupant's usual residence or the occupant has no usual residence. These non-traditional living arrangements are not considered to be housing units if they are vacant.

Other Living Quarters—Any address that does not meet the definition of a HU and has living quarters or has the potential of having living quarters. Other living quarters include correctional facilities, college and university housing, religious living quarters, dormitories for migrant workers, assisted living facilities, juvenile facilities, skilled nursing facilities, and emergency shelters for people experiencing homelessness.

Special Places—A facility containing one or more group quarters where people live or stay, such as a college or university, nursing home, hospital, prison, hotel, migrant or seasonal farm worker camp, or military installation or ship. While a special place usually consists of one or more group quarters, and may contain embedded or free-standing housing units, it may consist entirely of housing units (e.g., a campground that has only trailer, RV, and/or tent sites). Establishments that are administratively responsible for one or more Group Quarters. In some cases, the Special Place and the Group Quarters are one and the same.

III. Data

OMB Number: None.

Form Number: DD-351(GQV).

Type of Review: Regular.

Affected Public: Individuals, businesses or other for-profit institutions and small businesses or organizations.

Estimated Number of Respondents: 700 GQs (Travis County, Texas) and 20 GQs (Cheyenne River Reservation, South Dakota) for the 2006 GQV operation. 72 GQs for the Reinterview operation.

Estimated Time Per Response: 15 minutes.

Estimated Total Annual Burden Hours: 180 hours for GQV. 18 hours for Reinterview.

Estimated Total Annual Cost: There is no cost to the respondents except for their time to respond.

Respondent's Obligation: Mandatory.

Legal Authority: Title 13 U.S.C. 141 & 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 2, 2005.
Madeleine Clayton,
Management Analyst, Office of the Chief Information Officer.

[FR Doc. 05-2329 Filed 2-7-05; 8:45 am]

BILLING CODE 3510-07-P